FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
017080N | General Cargo & Logistics, 17828 S. Main Street, Carson, CA 90248 | November 21, 2010.
017747N | Tomcar Investment USA, Inc., 10773 NW 58th Street, Suite 275, Miami, FL 33178 | November 6, 2010.
020675N | Service Galopando Corp., 3190 South State Road 7, Bay 5, Miramar, FL 33023 | October 23, 2010.
020983N | KCE Logistics Inc. dba, Korea Cargo Express, 1932 NW. 82nd Avenue, Miami, FL 33126 | November 21, 2010.
021789F | Daleray Corporation, 3350 SW. 3rd Avenue, Suite 207, Fort Lauderdale, FL 33315 | November 30, 2010.

Sandra L. Kusumoto,
Director, Bureau of Certification and Licensing.

[FR Doc. 2011-1174 Filed 1-19-11; 8:45 am]

BILLING CODE 6730-01-P